TRADE REPRESENTATIVE

Andean Trade Preference Act (ATPA), as Amended: Request for Public Comments Regarding Beneficiary Countries

AGENCY: Office of the United States Trade Representative.

ACTION: Notice of opportunity to file comments on the beneficiary countries under ATPA.

SUMMARY: In compliance with section 203(f) of the ATPA, as amended, 19 U.S.C. 3202(f)(2), the Office of the United States Trade Representative (USTR) is requesting the views of interested parties on whether the remaining designated beneficiary country (as of May 15, 2012), Ecuador, is meeting the eligibility criteria under the ATPA. (See 19 U.S.C. 3203 (b)(6)(B).) This information will be used in the preparation of a report to the Congress on the operation of the program.

DATES: Public comments are due by close of business, May 8, 2013.

ADDRESSES: Submissions can be made on-line: http://www.regulations.gov, docket number USTR-2013-0018.

FOR FURTHER INFORMATION CONTACT: Bennett Harman, Deputy Assistant USTR for Latin America, at (202) 395-9446.

SUPPLEMENTARY INFORMATION: The ATPA, as amended by the Andean Trade Promotion and Drug Eradication Act of 2002 (ATPDEA) in the Trade Act of 2002, 19 U.S.C. 3201 et seq., provides trade benefits for eligible Andean countries. The original ATPA allowed Bolivia, Ecuador, Colombia, and Peru to be considered as beneficiary countries if they met eligibility requirements laid out in 19 U.S.C. 3203 (b)(6)(B).

In Proclamation 8323 of November 25, 2008, the President determined that Bolivia no longer satisfied the eligibility criteria related to counternarcotics and suspended Bolivia's status as a beneficiary country for purposes of the ATPA and ATPDEA. In a June 30, 2009 report to Congress the President did not determine that Bolivia satisfied the requirements set forth in section 203(c) of the ATPA (19 U.S.C. 3202(c)) for being designated as a beneficiary country. Therefore, as provided for in section 208(a)(3) of the Act (19 U.S.C. 3206(a)(3)), no duty free treatment or other preferential treatment extended under the ATPA remained in effect with respect to Bolivia after June 30, 2009.

Section 201 of the Omnibus Trade Act of 2010 (Pub. L. 111-344), which re-authorized the ATPDEA, terminated any duty free treatment or other preferential treatment available under ATPDEA to Peru, effective December 31, 2010. The United States and Peru have entered into a bilateral free trade agreement.

Colombia was no longer an eligible beneficiary country under the ATPA as of May 15, 2012, when the U.S.-Colombia Trade Promotion Agreement entered into force (19 U.S.C. 3805 Note).

Unless renewed by Congress, the ATPA will expire on July 31, 2013.

Additional Information: Section 203(f) of the ATPA (19 U.S.C. 3202(f)) requires the USTR, not later than June 30, 2013, to submit to Congress a report on the operation of the ATPA. Before submitting such report, USTR is required to request comments on whether beneficiary countries are meeting the criteria set forth in 19 U.S.C. 3203 (b)(6)(B) (which incorporates by reference the criteria set forth in sections 3202 (c) and (d)). USTR refers interested parties to the Federal Register notice published on August 15, 2002 (67 FR 53379), for a full list of the eligibility criteria.

Requirements for Submissions: Persons submitting written comments must do so in English and must identify on the first page of the submission “USTR Report on Operation of the Andean Trade Preference Act.” In order to be assured of consideration, comments should be submitted by close of business, May 8, 2013.

In order to ensure the timely receipt and consideration of comments, USTR strongly encourages commenters to make on-line submissions, using the http://www.regulations.gov Web site. Comments should be submitted under the following docket: USTR-2013-0018. To find the docket, enter the docket number in the “Enter Keyword or ID” window at the http://www.regulations.gov home page and click “Search.” The site will provide a search-results page listing all documents associated with this docket. Find a reference to this notice and click on the link entitled “Comment Now!” (For further information on using the www.regulations.gov Web site, please consult the resources provided on the Web site by clicking on the “Help” tab.)

The http://www.regulations.gov Web site provides the option of making submissions by filling in a comments field, or by attaching a document. USTR prefers submissions to be provided in an attached document. If a document is attached, it is sufficient to type “See attached” in the “Type Comment” and attach a file in the “Upload File(s)” field. USTR also prefers submissions in Microsoft Word (.doc) or Adobe Acrobat (.pdf). If the submission is in an application other than those two, please indicate the name of the application in the “Comments” field.

A person seeking to request that information contained in a submission from that person be treated as business confidential information must certify that such information is business confidential and would not customarily be released to the public by the submitter. For any comments submitted electronically containing business confidential information, the file name of the business confidential version should begin with the characters “BC”. Confidential business information must be clearly designated as such. The submission must be marked “BUSINESS CONFIDENTIAL” at the top and bottom of the cover page and each succeeding page, and the submission should indicate, via brackets, the specific information that is confidential. Additionally, “BUSINESS CONFIDENTIAL” must be included in the “Type Comment” field. Filers of submissions containing business confidential information must also submit a public version of their comments indicating where confidential information has been redacted. The non-confidential summary will be placed in the docket and open to public inspection. The file name of the public version should begin with the character “P”. The “BC” and “P” should be followed by the name of the person or entity submitting the comments or reply comments. Filers submitting comments containing no business confidential information should name their file using the character “P”, followed by the name of the person or entity submitting the comments.

Please do not attach separate cover letters to electronic submissions; rather, include any information that might appear in a cover letter in the comments themselves. Similarly, to the extent possible, please include any exhibits, annexes, or other attachments in the same file as the submission itself, not as separate files.

USTR strongly urges submitters to file comments through www.regulations.gov, if at all possible. Any alternative arrangements must be made with Bennett Harman in advance of transmitting a comment. Mr. Harman should be contacted at (202) 395-9446. General information concerning USTR is available at http://www.ustr.gov.

Inspection of Submissions: Submissions in response to this notice, except for information granted “business confidential” status, will be available for public viewing at http://www.regulations.gov. Such submissions may be viewed by entering the docket number USTR-2013-0018 in the search field at http://www.regulations.gov.

William Shpiece,
Acting Chairman, Trade Policy Staff Committee.

[FR Doc. 2013-08035 Filed 4-5-13; 8:45 am]

BILLING CODE 3290-F3-P